DEPARTMENT OF STATE

[Public Notice 6832]

Town Hall Meeting To Consider the Establishment of a U.S. Commission on Cultural Materials Displaced During World War II, and the Implementation of the Art Restitution Provisions of the June 30, 2009 Terezin Declaration

The Department of State's Special Envoy for Holocaust Issues is calling a Town Hall Meeting January 7, 2010 from 1 p.m. to 4 p.m. at the Department to get the views of interested individuals and organizations on the establishment of a U.S. commission on cultural materials displaced during World War II. The meeting will also discuss the June 30, 2009 Terezin Declaration, the text of which is at http://www.state.gov/p/eur/rls/or/126162.htm.

Individuals wishing to attend this Town Hall Meeting should register no later than January 5, 2010 by emailing the following information to Ms. Carolyn Jones-Johnson (Jones-JohnsonCD@state.gov):

Full Name

Date of Birth

Number of Government-issued Picture ID (Driver's License Number, including State of Issuance, U.S. Passport or Alternate Government-Issued Picture ID)

Organization which you represent, and its Address and Phone Number

Home Address (only if attending as an individual)

Those who register are urged to arrive at the Department by 12:45 p.m. to allow time for security screening. Upon arrival, show a valid government-issued identification (a U.S. state driver's license or a U.S. passport.) The official address of the State Department is 2201 C Street, NW., Washington, DC. Attendees should use the “23rd Street Entrance” on the West Side of the State Department's Harry S. Truman Building, located on 23rd Street between C Street and D Street, NW., Washington, DC.

Written comments on the above subjects may also be provided to the same e-mail address for Ms. Jones-Johnson cited above.

Dated: December 2, 2009.
Ambassador J. Christian Kennedy,
Special Envoy for Holocaust Issues, Department of State.

[FR Doc. E9-29226 Filed 12-7-09; 8:45 am]

BILLING CODE 4710-23-P